DEPARTMENT OF ENERGY

Federal Energy Regulatory Commission

[Docket No. EC02-108-000, et al.]

Aquila Merchant Services, Inc., et al.; Electric Rate and Corporate Regulation Filings

August 28, 2002.

The following filings have been made with the Commission. The filings are listed in ascending order within each docket classification.

1. Aquila Merchant Services, Inc.

[Docket No. EC02-108-000]

Take notice that on August 23, 2002, Aquila Merchant Services, Inc. (Aquila Merchant) filed an application with the Federal Energy Regulatory Commission (Commission) pursuant to section 203 of the Federal Power Act, 16 U.S.C. 824b, and Part 33 of the Commission regulations, 18 CFR part 33. Aquila Merchant seeks authorization and approval to assign a Master Power Purchase and Sale Agreement Confirmation Letter and a Base Agreement for Electric Power Purchase and Sale Transactions to the MidAmerican Energy Company.

Comment Date: September 9, 2002.

2. USGen New England, Inc., Constellation Power Source, Inc.

[Docket No. EC02-109-000]

Take notice that on August 22, 2002, USGen New England, Inc. (USGenNE) and Constellation Power Source, Inc. (CPS), tendered for filing with the Federal Energy Regulatory Commission (Commission), pursuant to section 203 of the Federal Power Act, 16 U.S.C. 824b (1994), and Part 33 of the Commission's regulations, 18 CFR part 33, an application requesting that the Commission approve the transfer of a negotiated percentage of the right and obligation of USGenNE to serve the Massachusetts Electric Company and the Nantucket Electric Company to CPS.

Comment Date: September 13, 2002.

3. USGen New England, Inc., Constellation Power Source, Inc.

[Docket No. EC02-110-000]

Take notice that on August 22, 2002, USGen New England, Inc. (USGenNE) and Constellation Power Source, Inc. (CPS), tendered for filing with the Federal Energy Regulatory Commission (Commission) , pursuant to section 203 of the Federal Power Act, 16 U.S.C. 824b (1994), and Part 33 of the Commission's regulations, 18 CFR part 33, an application requesting that the Commission approve the transfer of a negotiated percentage of the right and obligation of USGenNE to serve The Narragansett Electric Company to CPS.

Comment Date: September 13, 2002.

4. ISO New England Inc., New York Independent System Operator, Inc.

[Docket No. RT02-3-000]

Take notice that on August 23, 2002 ISO New England Inc. (ISO-NE) and the New York Independent System Operator, Inc. (NYISO) filed a Petition for a Declaratory Order seeking an order that the proposed Northeastern Regional Transmission Organization would qualify as a Regional Transmission Organization.

ISO-NE and the NYISO are serving a copy of the petition on the Governors and utility regulatory commissions of Connecticut, Maine, Massachusetts, New Hampshire, New York, Rhode Island and Vermont. A copy is also being posted on the Web sites of ISO-NE and the NYISO.

Comment Date: September 27, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.
Deputy Secretary

[FR Doc. 02-22668 Filed 9-5-02; 8:45 am]

BILLING CODE 6717-01-P